DEPARTMENT OF COMMERCE

National Telecommunications and Information Administration

[Docket No. 981203295-4044-09]

Technology Opportunities Program

AGENCY: National Telecommunications and Information Administration, Commerce.

ACTION: Notice of availability of funds.

SUMMARY: Pursuant to the Consolidated Appropriations Act, 2004, the National Telecommunications and Information Administration (NTIA), U.S. Department of Commerce, issues this notice describing the conditions under which applications will be received by the Technology Opportunities Program (TOP) and how NTIA will select applications for funding.

As an agency of the U.S. Department of Commerce, NTIA is the Executive Branch's principal voice on domestic and international telecommunications and information technology issues. NTIA works to spur innovation, encourage competition, help create jobs and support policies that provide consumers with more choices and better quality telecommunications products and services at lower prices. TOP is a highly competitive, merit-based matching grant program that supports this mission through funding demonstrations of new telecommunications and information technology applications for the provision of educational, health care, or public information in the Nation's public and non-profit sectors.

DATES: Applications must be either postmarked no later than April 27, 2004, or hand-delivered no later than 5 p.m. Eastern Standard Time on April 27, 2004.

ADDRESSES: Completed applications must be mailed, shipped, or sent overnight express to: Technology Opportunities Program, National Telecommunications and Information Administration, U.S. Department of Commerce, 1401 Constitution Avenue, NW., HCHB, Room 4096, Washington, DC 20230; or hand-delivered to Technology Opportunities Program, National Telecommunications and Information Administration, U.S. Department of Commerce, HCHB, Room 1874, 1401 Constitution Avenue, NW., Washington, DC 20230.

FOR FURTHER INFORMATION, CONTACT: Wayne Ritchie (see ADDRESSES) or by phone at 202-482-2048 ext. 5515, or fax to: (202) 501-8009, or via Internet at writchie@ntia.doc.gov. The full Federal Funding Opportunity Announcement (Announcement) for the TOP program is available via Web site: http://www.ntia.doc.gov/top or by contacting the program official identified above. This full Announcement will also be available through Grants.gov at http://www.Grants.gov.

SUPPLEMENTARY INFORMATION: Funding Availability: Approximately $12.9 million in grants is available for federal assistance under this program. In Fiscal Year 2003, NTIA received 569 applications collectively requesting more than $269 million in federal funds. The Department of Commerce announced 28 awards totaling $13.95 million in federal funds.

Statutory Authority: Pub. L. 108-199.

CFDA: 11.552, Technology Opportunities Program.

Program Description: TOP is a highly competitive, merit-based matching grant program that promotes the use of advanced telecommunications and information technologies in the non-profit and public sectors. TOP provides organizations with the opportunity to explore the possibilities that new interactive technologies offer to improve the provision of “educational, health care, or public information.” These projects encourage the deployment of broadband infrastructure, services, and applications throughout the Nation.

With respect to educational information, TOP will support projects that expand training and learning opportunities or create innovative educational or training methods through the use of network technologies. In health care, TOP will support projects that use network technologies to improve the efficiency of, effectiveness of, or access to health-related services. TOP will support projects that enable the sharing and creation of a broad range of public information including, but not limited to, economic development opportunities; state, tribal, and local government services; community-based services; arts and humanities; and resources that promote self-sufficiency and an improved quality of life.

All funded projects must be interactive and foster the exchange and sharing of information among individuals and/or groups, as opposed to one-way or broadcast systems. These projects are expected to serve as national models, even though the applicant may propose to pilot the project at the local level. Funded projects must evidence a strong probability of replication in other communities throughout the United States. Accordingly, priority will be given to projects that address problems of national significance, expand economic opportunities, enhance productivity, increase worker skills, and create jobs for American workers.

Priority also will be given to projects demonstrating the use of new telecommunications and information technologies. NTIA is especially interested in applications of wireless technologies including, but not limited to, WI-FI, unlicensed spectrum devices, and projects demonstrating the potential application of 3rd generation or Advanced Wireless Services. All projects are expected to advance the body of knowledge and expand service availability and effectiveness in their respective content areas.

Eligibility: Eligible applicants are non-profit entities, public sector organizations as well as state, local and tribal governments.

Cost Sharing Requirements: Grant recipients under this program will be required to provide matching funds toward the total project cost. Applicants must document their capacity to provide matching funds. Matching funds may be in the form of either cash or in-kind contributions. NTIA will provide up to 50 percent of the total project cost, unless the applicant can document extraordinary circumstances warranting a grant of up to 75 percent. Grant funds under this program are usually released in direct proportion to the documented expenditure of matching funds.

Evaluation and Review Process: The selection process involves four stages outlined below.

1. During the first stage, each eligible application will be reviewed by a panel of at least three outside peer reviewers who have demonstrated expertise in both the programmatic and technological aspects of the application. The peer review panel members will evaluate applications according to the review criteria provided in this notice and provide individual ratings to the program staff.

2. Upon completion of the external peer review process, program staff will analyze applications considered for award to assess: (1) Whether a proposed project meets the program's funding scope; (2) the eligibility of costs and matching funds included in an application's budget; and (3) the extent to which an application complements or duplicates projects previously funded or under consideration by NTIA or other federal programs. The TOP Director then prepares and presents a slate of recommended grant awards to the Office of Telecommunications and Information Applications' (OTIA) Associate Administrator for review and approval. The Director's recommendations and the Associate Administrator's review and approval will take into account the selection factors listed below.

3. Upon approval by the OTIA Associate Administrator, the Director's recommendations will then be presented to the Selecting Official, the NTIA Administrator. The NTIA Administrator selects the applications to be negotiated for possible grant award taking into consideration the Director's recommendations and the degree to which the slate of applications, taken as a whole, satisfies the selection factors described below and the program's stated purposes as set forth in the section entitled “Program Description.” In making the selection, the Administrator may consult with senior officials in the Office of the Secretary to ensure that such selection factors and the program's stated purposes have been met.

4. After applications have been selected in this manner, negotiations will take place between TOP staff and the applicant. These negotiations are intended to resolve any differences that exist between the applicant's original request and what TOP proposes to fund and, if necessary, to clarify items in the application. Not all applicants who are contacted for negotiation will necessarily receive a TOP award. Upon the conclusion of negotiations, final selections made by the Assistant Secretary will be based upon the recommendations of the TOP Director and the OTIA Associate Administrator and the degree to which the slate of applications, taken as a whole, satisfies the program's stated purposes as set forth in the section entitled “Program Description.”

Evaluation Criteria: Applications will be evaluated on the basis of the following evaluation criteria at the indicated weights:

1. Project Purpose (20%). This criterion assesses the degree to which the applicant clearly describes and convincingly links three major elements: the problem(s) to be addressed, the proposed solution, and the anticipated outcomes of the project.

2. Innovation (30%). This criterion assesses the degree to which the application demonstrates new technologies and/or how applications of new technology can be creatively used to address the needs of the non-profit and public sectors.

3. Community Involvement (10%). This criterion assesses the degree to which the applicant includes linkages among unaffiliated organizations, targeted end users, and a variety of community stakeholders and assesses the commitment of these community partners to the long term sustainability of the project after the federal grant period.

4. Evaluation (10%). This criterion assesses the evaluation design.

5. Project Feasibility (20%). This criterion assesses the technical approach, the qualifications of the project staff, and the implementation schedule; and assesses plans for protecting privacy, sustaining the project beyond the grant period, and disseminating the lessons learned.

6. Project Budget (10%). This criterion assesses the budget for clarity, cost-effectiveness, reasonableness and sufficiency.

Selection Factors: The Selecting Official shall award in the rank order unless the application is justified to be selected out of rank order based upon the following factors:

1. The evaluations of the outside peer reviewers;

2. The analysis of program staff;

3. The degree to which the proposed grants meet the program's purpose as described in the section entitled “Program Description;'

4. The degree to which the proposed grants use technology to expand economic opportunities, enhance productivity, increase worker skills, and create jobs for American workers;

5. The geographic distribution of the proposed grant awards;

6. The variety of technologies and diversity of uses of the technologies employed by the proposed grant awards;

7. The provision of access to and use of telecommunications and information technologies by underserved groups and local communities suffering from economic downturns;

8. The expansion of commercial entities to enable local communities to attract commercial investment to spur growth of American jobs, especially in the areas of education, health care, and public information;

9. Avoidance of redundancy and conflicts with the initiatives of other federal agencies; and,

10. The availability of funds.

Universal Identifier: All applicants (nonprofit, state, local government, universities, and tribal organizations) will be required to provide a Dun and Bradstreet Data Universal Numbering System (DUNS) number during the application process. See the October 30, 2002 (67 FR 66177) and April 8, 2003 (68 FR 17000) Federal Register notices for additional information. Organizations can receive a DUNS number at no cost by calling the dedicated toll-free DUNS Number request line 1-866-705-5711 or via the Internet (http://www.dunandbradstreet.com).

The Department of Commerce Pre-Award Notification Requirements for Grants and Cooperative Agreements: The Department of Commerce Pre-Award Notification Requirements for Grants and Cooperative Agreements contained in the Federal Register notice of October 1, 2001 (66 FR 49917), as amended by Federal Register notice published on October 30, 2002 (67 FR 66109), is applicable to this solicitation.

Limitation of Liability: In no event will the Department of Commerce be responsible for proposal preparation costs if this program fails to receive funding or is canceled because of other agency priorities. Publication of this announcement does not oblige the agency to award any specific project or to obligate any available funds.

Intergovernmental Review: TOP applications are subject to Executive Order 12372, “Intergovernmental Review of Federal Programs,” if the state in which the applicant organization is located participates in the process. Usually submission to the State Single Point of Contact (SPOC) needs to be only the first two pages of the Application Form, but applicants should contact their own SPOC offices to find out about and comply with its requirements. The names and addresses of the SPOC offices are listed on the TOP Web site and at the Office of Management and Budget's Home page at http://www.whitehouse.gov/omb/grants/spoc.html.

Paperwork Reduction Act: This document contains collection-of-information requirements subject to the Paperwork Reduction Act (PRA). The use of Standard Forms 424, 424A, 424B, and SF-LLL have been approved by OMB under the respective control numbers 0348-0043, 0348-0044, 0348-0040, and 0348-0046. Notwithstanding any other provision of law, no person is required to respond to, nor shall any person be subject to a penalty for failure to comply with, a collection of information subject to the Paperwork Reduction Act, unless that collection of information displays a currently valid OMB control number.

Executive Order 12866: This notice has been determined to be not significant for purposes of E.O. 12866.

Executive Order 13132 (Federalism): It has been determined that this notice does not contain policies with Federalism implications as that term is defined in E.O. 13132.

Administrative Procedure Act/Regulatory Flexibility Act: Prior notice and an opportunity for public comments are not required by the Administrative Procedure Act or any other law for rules concerning grants, benefits, and contracts (5 U.S.C. 553). Because notice and opportunity for comment are not required pursuant to 5 U.S.C. 553 or any other law, the analytic requirements of the Regulatory Flexibility Act (5 U.S.C. 601 et seq.) are inapplicable. Therefore, a regulatory flexibility analysis has not been prepared.

Dated: February 10, 2004.
Bernadette McGuire-Rivera,
Associate Administrator, Office of Telecommunications and Information Applications.

[FR Doc. 04-3296 Filed 2-13-04; 8:45 am]

BILLING CODE 3510-60-P